DEPARTMENT OF HEALTH AND HUMAN SERVICES

[Document Identifier: OS-0990-0330]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before November 27, 2017.

ADDRESSES: Submit your comments to Sherrette.Funn@hhs.gov or by calling (202)795-7714.

FOR FURTHER INFORMATION CONTACT: When submitting comments or requesting information, please include the document identifier 0990-0330-60D and project title for reference, to Sherrette.funn@hhs.gov, the Reports Clearance Officer Sherrette Funn, call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title: Appellant Climate Survey, Revision.

Abstract: The Office of Medicare Hearings and Appeals (OMHA) requests revision to a previously approved information collection request from the Office of Management and Budget (OMB). The annual OMHA Appellant Climate Survey is a survey of Medicare beneficiaries, providers, suppliers, or their representatives who participated in a hearing before an Administrative Law Judge (ALJ) from OMHA. Appellants dissatisfied with the outcome of their Level 2 Medicare appeal may request a hearing before an OMHA ALJ. The Appellant Climate Survey will be used to measure appellant satisfaction with their OMHA appeals experience, as opposed to their satisfaction with a specific ruling. OMHA was established by the Medicare Prescription Drug, Improvement, and Modernization Act (MMA) of 2003 (Pub. L. 108-173) and became operational on July 1, 2005. The MMA legislation and implementing regulations issued on March 8, 2007 instituted a number of changes in the appeals process. The MMA legislation also directed HHS to consider the feasibility of conducting hearings using telephone or video-teleconference (VTC) technologies. In carrying out this mandate, OMHA makes use of both teleconferencing and VTC to provide appellants with a vast nationwide network of access points for hearings close to their homes. The first 3-year administration cycle of the OMHA survey began in fiscal year (FY) 2008, a second 3-year cycle began in FY2011, and third 3-year cycle began in FY2014. The survey will continue to be conducted annually over a 3-year period with the next data collection cycle beginning in FY2018. Data collection instruments and recruitment materials will be offered in English and Spanish. Total burden for survey respondents is 100.00 hours each year.

Affected Public: Survey respondents will consist of Medicare beneficiaries and non-beneficiaries (i.e., providers, suppliers), who participated in a hearing before an OMHA ALJ. OMHA will draw a representative, non-redundant sample of appellants whose cases have been closed in the last 6 months.

Terry S. Clark,
Office of the Secretary, Asst. Paperwork Reduction Act Reports Clearance Officer.

[FR Doc. 2017-20738 Filed 9-27-17; 8:45 am]

BILLING CODE 4150-46-P